DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Feasibility of secure messaging for pediatric patients with chronic disease: Pilot implementation in pediatric respiratory medicine.” In accordance with the Paperwork Reduction Act of 1995, 44 U.S.C. 3506(c)(2)(A), AHRQ invites the public to comment on this proposed information collection.

DATES: Comments on this notice must be received by April 15, 2008.

ADDRESSES: Written comments should be submitted to: Doris Lefkowitz, Reports Clearance Officer, AHRQ, by e-mail at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

Feasibility of Secure Messaging for Pediatric Patients With Chronic Disease: Pilot Implementation in Pediatric Respiratory Medicine

AHRQ proposes to evaluate how the implementation of a secure email messaging (e-messaging) system between clinicians and adolescent patients affects: (1) Time spent by providers communicating with patients, (2) Emergency Department utilization for medication refills, and (3) qualitative satisfaction with care of the patients. The study will be conducted in the Yale University School of Medicine Pediatric Respiratory Medicine Clinic.

Several studies have evaluated the use of e-mail between providers and patients and found that it is typically satisfactory to both, has not been abused by patients, and has not been used inappropriately for urgent items. Studies have not evaluated the use of e-mailing or secure messaging by children or adolescents with chronic diseases as well as their families. The setting of chronic disease provides a natural forum for discussion about the use of such technologies since these families may need more frequent contact with their care-providers, need more frequent medication refills, and may have close relationships with their providers that encourage a communication genre such as secure messaging.

In particular, because many adolescents are comfortable with text messaging and email, the investigators hypothesize that adolescent patients themselves may feel empowered to contact their providers using this medium. This potential shift to having adolescents communicate with the providers presents two main hypotheses of interest. (1) Adolescents may be more prone to send a message that may be of an urgent nature because of the sense that messaging is“instant” as well as a possible feeling of more privacy. This issue presents the concern that adolescents in particular could send a secure message about information that is potentially urgent in nature such as a severe asthma exacerbation or suicidal ideation. Such messages will need immediate attention. (2) Adolescents may be more apt to disclose questions about their care that they would not have otherwise brought up with the provider. By giving adolescents a medium where they feel comfortable communicating, clinicians may be able to better meet the medical and psychosocial needs of adolescents and their families.

Method of Collection

The project will include 300 patient/family participants and 138 provider participants. Data will be collected from (1) e-messaging content, to understand what children, adolescents and their parents will send in secure messages to their provider; (2) a survey, to determine the demographic characteristics of the patients and their family; and (3) qualitative interviews with patients and their families and clinic staff, to assess their attitudes and satisfaction with e-messaging.

Estimated Annual Respondent Burden

Exhibit 1 shows the estimated annualized burden hours. Each of the 300 patient/family participants will complete a demographic survey and use the e-messaging system, sending an average of one e-message per month. Thirty of the patient/family participants will be randomly selected to participate in a qualitative interview. Each of the 138 provider participants will use the e-messaging system, responding to about twenty-six e-messages per year, and keep a pre- and post-intervention log of patient/provider communications. Ten provider participants will be randomly selected to participate in a qualitative interview. The total burden for all participants is estimated to be 2,148 hours.

Exhibit 2 shows the estimated annualized cost burden for the participants' time to participate in this study. The total cost burden for all participants is estimated to be $72,664.

Exhibit 1.—Estimated Annualized Burden Hours
Interview participants | Number of respondents | Number of responses per respondent | Hours per response | Total burden hours
Patient/Family Participants:
Demographic Survey | 300 | 1 | 1 | 300
E-messaging | 300 | 12 | 15/60 | 900
Qualitative Interview | 30 | 1 | 30/60 | 15
Provider Participants:
E-messaging | 138 | 26 | 15/60 | 900
Qualitative Interviews | 10 | 1 | 30/60 | 5
Pre-intervention Provider Log | 138 | 1 | 6/60 | 14
Post-intervention Provider Log | 138 | 1 | 6/60 | 14
Total | 438 | na | na | 2,148

Exhibit 2.—Estimated Annualized Cost Burden
Interview participants | Number of respondents | Total burden hours | Average hourly wage rate* | Total cost burden
Patient/Family Participants:
Demographic Survey | 300 | 300 | $26.20 | $7,860
E-messaging | 300 | 900 | 26.20 | 23,580
Qualitative Survey | 30 | 15 | 26.20 | 393
Provider Participants:
E-messaging | 138 | 900 | 43.78 | 39,402
Qualitative Interviews | 10 | 5 | 43.78 | 219
Pre-intervention Provider Log | 138 | 13.8 | 43.78 | 605
Post-intervention Provider Log | 138 | 13.8 | 43.78 | 605
Total | 438 | na | na | 72,664
* For Patient/Family Participants: Based upon the mean of the average wages for all occupations, National Compensation Survey, “U.S. Department of Labor, Bureau of Labor Statistics.”
* For Provider Participants: Based upon the mean of the average wages for physicians ($65.54/hr) and nurses ($43.85/hr) in the New York, New Jersey, Connecticut and Pennsylvania region, National Compensation Survey, “U.S. Department of Labor, Bureau of Labor Statistics.” For Pulmonary Fellows: Based upon internal Yale University School of Medicine data.

Estimated Annual Costs to the Federal Government

The total cost to the Federal Government for this project is $399,970 over a two year period. The average annual cost is $199,985. The following is a breakdown of the average annual costs:

Direct Costs:
Personnel | $159,488.5
Consultancies | 5,475
Data support | 5,336.5
Indirect Costs:
Indirect costs | 29,685
Total | 199,985

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection.

All comments will become a matter of public record.

Dated: February 6, 2008.
Carolyn M. Clancy,
Director.

[FR Doc.08-659 Filed 2-14-08; 8:45 am]

BILLING CODE 4160-90-M